ENVIRONMENTAL PROTECTION AGENCY

[EPA-HQ-OAR-2023-0492; FRL 12820-01-OMS]

Agency Information Collection Activities; Submission to the Office of Management and Budget for Review and Approval; Comment Request; Transportation and Climate Division Grant Program Reporting Templates: Supplemental Project Application Template and Project Reporting Templates for Diesel Emission Reduction Act, Clean School Bus, Clean Heavy Duty and Clean Ports Grant Programs (Revision)

AGENCY: Environmental Protection Agency (EPA).

ACTION: Notice.

SUMMARY: The Environmental Protection Agency (EPA) has submitted an information collection request (ICR), Transportation and Climate Division Grant Program Reporting Templates: Supplemental Project Application Template and Project Reporting Templates for Diesel Emission Reduction Act, Clean School Bus, Clean Heavy Duty and Clean Ports Grant Programs (EPA ICR Number 2793.02, OMB Control Number 2060-0754) to the Office of Management and Budget (OMB) for review and approval in accordance with the Paperwork Reduction Act. This is a revision to an existing ICR, which is currently approved through April 30, 2027. Public comments were previously requested via the Federal Register on January 2, 2025 during a 60-day comment period. This notice allows for 30 days of public comments.

DATES: Comments may be submitted on or before July 11, 2025.

ADDRESSES: Submit your comments, referencing Docket ID Number EPA-HQ-OAR-2023-0492 to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Sarah Harrison, Office of Transportation and Air Quality, (6406A), Environmental Protection Agency, 1200 Pennsylvania Ave. NW, Washington, DC 20460; telephone number: 202-564-6505; fax number: 202-343-2803; email address: Harrison.Sarah@epa.gov.

SUPPLEMENTARY INFORMATION: This is a revision of the ICR, which is currently approved through April 30, 2027. An agency may not conduct or sponsor and a person is not required to respond to a collection of information unless it displays a currently valid OMB control number.

Public comments were previously requested via the Federal Register on January 2, 2025 during a 60-day comment period (90 FR 101). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This supporting statement is for a revision to an existing Information Collection Request (ICR) for four mobile source-related grant programs administered by the Environmental Protection Agency's (EPA) Office of Transportation and Air Quality (OTAQ). These four programs include: Diesel Emission Reduction Act (DERA) Grant Program, Clean School Bus (CSB) Grant Program, Clean Heavy-Duty Vehicles (CHDV) Grant Program, and Clean Ports Grant Program. The EPA currently uses this ICR to collect information to administer these programs, but to reflect the final program design and to further ease the burden for participants and Agency staff, the Agency needs to update this ICR to be able to use improved versions of previously approved instruments and collect information via three new reporting instruments. This ICR revision enhances project reporting instruments to ensure that the project reporting templates align with the final program design and requirements and incorporate user feedback received during the application period for the CHDV and Clean Ports Grant Programs.

EPA uses approved procedures and forms to collect necessary information to operate its grant programs and has been providing grants under DERA since 2008. EPA launched the Clean Port Program and Clean Heavy-Duty Vehicles Program in early 2024 and is overseeing the 2023 Clean School Bus Grantees. While these programs each have unique statutory requirements, there are key aspects that unite them, and by combining them as a cohort of programs under one ICR, EPA aims to enrich data quality across our programs and to ease burden on participants and agency staff overseeing multiple programs. Additionally, this collection will enhance the Agency's oversight of these projects as directed by Congress. The data collected will enable verification each project's programmatic compliance and support the Agency's commitment to prevent any potential fraud, waste, and abuse. Finally, the data collected supports OTAQ's mission to protect human health and the environment by reducing emissions from mobile sources and advancing clean fuels and technology, in alignment with Pillar 1: Clean Air, Land, and Water for Every American of Administrator Zeldin's Powering the Great American Comeback Initiative.

Form Numbers: 5900-684, 5900-685, 5900-683, 5900-682, 5900-686, 5900-687, 5900-688, 5900-691, 5900-692, 5900-693, 5900-679, 5900-680, 5900-681, 5900-689, 5900-690.

Respondents/affected entities: Participants in EPA's CSB, DERA, CHDV, and Clean Ports Grant programs.

Respondent's obligation to respond: Mandatory for grant recipients.

Estimated number of respondents: 1015 (total), including 623 DERA, 267 CSB, 70 CHDV, and 55 Clean Ports Program respondents annually.

Frequency of response: Up to 4 annual responses per year the grant is active.

Total estimated burden: 8,149 hours per year. Burden is defined at 5 CFR 1320.03(b).

Total estimated cost: $493,079 per year, which includes $0 annualized capital or operation & maintenance costs

Changes in the estimates: There is a decrease of 6,440 hours in the total estimated respondent burden compared with the ICR currently approved by OMB. This decrease is due Finalization of Program Design, advancement of funding programs, new and revised instruments, and revised burden calculations.

Courtney Kerwin,
Director, Information Engagement Division.

[FR Doc. 2025-10554 Filed 6-10-25; 8:45 am]

BILLING CODE 6560-50-P